SURFACE TRANSPORTATION BOARD

[Docket No. AB 33 (Sub-No. 330X)]

Union Pacific Railroad Company—Discontinuance of Service Exemption—in Port of Los Angeles' San Pedro Subdivision, Los Angeles, CA

Union Pacific Railroad Company (UP) has filed a verified notice of exemption ¹ under 49 CFR part 1152 subpart F—Exempt Abandonments and Discontinuances of Service to discontinue a 3.6-mile freight rail operating easement over a portion of the San Pedro Industrial Lead a.k.a The West Basin Lead on the San Pedro Subdivision (the Line) in Los Angeles County, CA. The Line extends from milepost 4.00 north of Front Street and east of the Gaffey Street Lead past milepost 6.60, where the track splits, to the end of both the eastern and western leads as shown on Revised Exhibit C to the UP's supplemental notice filed on August 3, 2016. The total mileage for the Line includes both leads. The Line traverses United States Postal Service Zip Code 90731.

¹ This notice was originally filed on July 25, 2016. On August 2, 2016, and August 3, 2016, UP filed supplemental information clarifying the milepost designations and the distance on the Line on which it proposes to discontinue its freight easement service.

UP has certified that: (1) No local or overhead traffic has moved over the Line for at least two years; (2) there is no need to reroute any traffic over other lines; (3) no formal complaint filed by a user of rail service on the Line (or by a state or local government entity acting on behalf of such user) regarding cessation of service over the Line is pending either with the Surface Transportation Board (Board) or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on September 13, 2016, unless stayed pending reconsideration.² Petitions to stay that do not involve environmental issues and formal expressions of intent to file an OFA to subsidize continued rail service under 49 CFR 1152.27(c)(2) ³ must be filed by August 22, 2016.⁴ Petitions to reopen must be filed by September 1, 2016, with the Surface Transportation Board, 395 E Street SW., Washington, DC 20423-0001.

² Although UP states in its verified notice that the proposed consummation date of this transaction is September 10, 2016, this transaction cannot be consummated until September 13, 2016 (50 days from its filing date). 49 CFR 1152.50(d)(2).

³ Each OFA must be accompanied by the filing fee, which is currently set at $1,600. See 49 CFR 1002.2(f)(25).

⁴ Because this is a discontinuance proceeding and not an abandonment, interim trail use/rail banking and public use conditions are not appropriate. Because there will be an environmental review during abandonment, this discontinuance does not require an environmental review.

A copy of any petition filed with the Board should be sent to UP's representative: Mack H. Shumate, Jr., Union Pacific Railroad Company, 101 North Wacker Drive, Room 1920, Chicago, IL 60606.

If the verified notice contains false or misleading information, the exemption is void ab initio.

Board decisions and notices are available on our Web site at “WWW.STB.DOT.GOV.”

Decided: August 5, 2016.
By the Board, Joseph H. Dettmar, Acting Director, Office of Proceedings.
Jeffrey Herzig,
Clearance Clerk.

[FR Doc. 2016-19234 Filed 8-11-16; 8:45 am]

BILLING CODE 4915-01-P